DEPARTMENT OF LABOR

Employment and Training Administration

Public Meeting; Federal Committee on Registered Apprenticeship

AGENCY: Employment and Training Administration, Labor.

ACTION: Notice of meeting.

SUMMARY: Pursuant to section 10 of the Federal Advisory Committee Act (Pub. L. 92-463; 5 U.S.C. APP.1), notice is hereby given of a meeting of the Federal Committee on Registered Apprenticeship (FCRA).

Time and Date: The meeting will begin at 9:00 a.m. Thursday, October 26, 2000, and will continue until approximately 5:00 p.m. The meeting will reconvene at 9:00 a.m. on Friday, October 27, 2000, and will continue until approximately 12 noon.

Place: The Capital Hilton, 1001-16th Street NW, Washington, D.C. (202) 393-1000.

FOR FURTHER INFORMATION CONTACT: Mr. Anthony Swoope, Administrator, Office of Apprenticeship Training, Employer and Labor Services, Employment and Training Administration, U.S. Department of Labor, Room N-4649, 200 Constitution Avenue, NW, Washington, DC 20210. Telephone: (202) 693-2796, (this is not a toll-free number).

Matters To Be Considered

The agenda will focus on the following topics:

(1) Reports on the FCRA Work Groups:

Marketing

Quality

Diversity

Resources/Data

Legislative

(2) School to Work Technical Assistance Providers Bank

(3) Discuss FCRA Recommendations for submission to the Secretary of Labor

(4) Progress Report on OATELS/BAT activities

(5) Next Meeting Dates and Location

(6) Public Comment

Status

Members of the public are invited to attend the proceedings. Individuals with disabilities should contact Marion Winters at (202) 219-5921 no later than October 16, 2000, if special accommodations are needed.

Any member of the public who wishes to file written data or comments pertaining to the agenda may do so by sending it to Mr. Anthony Swoope, Administrator, Office of Apprenticeship Training, Employer and Labor Services, Employment and Training Administration, U.S. Department of Labor, Room N-4649, 200 Constitution Avenue, NW, Washington, DC 20210. Such submissions should be sent by October 16, 2000, to be included in the record for the meeting.

Any member of the public who wishes to speak at the meeting should indicate the nature of the intended presentation and the amount of time needed by furnishing a written statement to the Designated Federal Official by October 16, 2000. The chairperson will announce at the beginning of the meeting the extent to which time will permit the granting of such request.

Signed at Washington, DC, this 10th day of October 2000.
Raymond L. Bramucci,
Assistant Secretary of Employment and Training.

[FR Doc. 00-26430 Filed 10-12-00; 8:45 am]

BILLING CODE 4510-30-P